SOCIAL SECURITY ADMINISTRATION

Agency Information Collection Activities: Proposed Request and Comment Request

The Social Security Administration (SSA) publishes a list of information collection packages that will require clearance by the Office of Management and Budget (OMB) in compliance with Public Law 104-13, the Paperwork Reduction Act of 1995, effective October 1, 1995. The information collection packages that may be included in this notice are for revisions to OMB-approved information collections and extensions (no change) of OMB-approved information collections.

SSA is soliciting comments on the accuracy of the agency's burden estimate; the need for the information; its practical utility; ways to enhance its quality, utility, and clarity; and on ways to minimize burden on respondents, including the use of automated collection techniques or other forms of information technology. Written comments and recommendations regarding the information collection(s) should be submitted to the OMB Desk Officer and the SSA Reports Clearance Officer. The information can be mailed and/or faxed to the individuals at the addresses and fax numbers listed below:

(OMB), Office of Management and Budget, Fax: 202-395-6974. (SSA), Social Security Administration, DCFAM, Attn: Reports Clearance Officer, 1338 Annex Building, 6401 Security Blvd., Baltimore, MD 21235, Fax: 410-965-6400.

I. The information collections listed below are pending at SSA and will be submitted to OMB within 60 days from the date of this notice. Therefore, your comments should be submitted to SSA within 60 days from the date of this publication. You can obtain a copy of the collection instrument by calling the SSA Reports Clearance Officer at (410) 965-0454 or by writing to the address listed above.

State Agency Ticket Assignment Form—Ticket to Work and Self Sufficiency Program—0960-0641. SSA uses the information collected on form SSA-1365 to determine proper assignment under the Ticket to Work program and payment option. This will be done through the contracted Program Manager. The State Vocational Rehabilitation Agency (VRA) completes the form and the beneficiary reviews the data. The beneficiary will sign the form to acknowledge the assignment of their ticket to that agency. Respondents are the State VRAs.

Type of Request: Revision of an OMB-approved information collection.

Number of Respondents: 82.

Frequency of Response: 50.

Average Burden Per Response: 3 minutes.

Estimated Annual Burden: 205 hours.

II. The information collections listed below have been submitted to OMB for clearance. Your comments on the information collections would be most useful if received by OMB and SSA within 30 days from the date of this publication. You can obtain a copy of the OMB clearance packages by calling the SSA Reports Clearance Officer at (410) 965-0454, or by writing to the address listed above.

1. Application for Survivors Benefits—20 CFR 404.611 (a) and (c)—0960-0062. The information collected by form SSA-24 is needed to satisfy the “Joint Prescribed Application” of Title 38 U.S.C. 5105. That provision requires that survivors who file with either SSA or the Department of Veterans Affairs (VA) shall be deemed to have filed with both agencies, and that each agency's forms must request sufficient information to constitute an application for both SSA and VA benefits. The respondents are survivors of members or former members of the armed services. When form SSA-24 is received by SSA from the VA, an earnings record is requested to determine if insured status exists so that the claimant will complete the appropriate SSA survivor application. If entitlement does not exist, SSA may disallow the claim. If an SSA survivor application has already been filed, form SSA-24 is treated as a duplicate application.

Type of Request: Extension of an OMB-approved information collection.

Number of Respondents: 3,200.

Frequency of Response: 1.

Average Burden Per Response: 15 minutes.

Estimated Annual Burden: 800 hours.

2. Continuing Disability Review Report—20 CFR 404.1589, 20 CFR 416.989—0960-0072. We use form SSA-454-BK to collect information from individuals receiving disability benefits or their representatives. We evaluate the information to determine whether the individuals remain eligible for benefit payments. Adults are considered eligible for payment if they continue to be unable to do substantial gainful activity (SGA) by reason of their impairments. Title XVI children are considered eligible for payment if they still have marked and severe functional limitations by reason of their impairments. We obtain information concerning sources of medical treatment, participation in vocational rehabilitation programs (if any), attempts to work (if any), and the opinions of individuals regarding whether their conditions have improved.

Type of Request: Revision of an OMB-approved information collection.

Number of Respondents: 792,020.

Frequency of Response: 1.

Average Burden Per Response: 45 minutes.

Estimated Annual Burden: 594,015 hours.

Quarterly Statistical Report on Recipients and Payments Under State-Administered Assistance Programs for Aged, Blind and Disabled (Individuals and Couples) Recipients—20 CFR 416.2010, 20 CFR 416.2098—0960-0130. The purpose of the statistical report is to obtain State data on expenditures and caseloads of State-administered supplementation under the Supplemental Security Income (SSI) program. The statistics are needed to complement information available for the federally administered programs and to more fully explain the impact of the public income support programs on the needy, aged, blind, and disabled. In addition, the expenditure data are used to monitor State compliance with the mandatory pass-along provision.

States use our publications, which are prepared from data submitted on this statistical report, for administrative purposes to compare their expenditures and caseloads with those of other States, to determine the feasibility of program change, and to keep abreast of program developments in other States. Federal personnel request data about State-administered supplementation programs to compare various State programs, to examine the relationship of State supplementation expenditures and caseloads to federally financed programs such as Medicaid, and to determine the effect of changes in SSI and other Federal programs on State supplementation programs. In addition, Federal and State personnel have used data obtained from this report in developing legislative proposals and budget estimates.

Type of Request: Extension of an OMB-approved information collection.

Number of Respondents: 31.

Frequency of Response: 4.

Average Burden per Response: 60 minutes.

Estimated Annual Burden: 124 hours.

Dated: February 23, 2005.
Elizabeth A. Davidson,
Reports Clearance Officer, Social Security Administration.

[FR Doc. 05-3892 Filed 2-28-05; 8:45 am]

BILLING CODE 4191-02-P